ENVIRONMENTAL PROTECTION AGENCY

[OEI-2005-2002; FRL-7998-8]

Office of Environmental Information; Announcement of Environmental Data Standards Council Revised Data Standards

AGENCY: Environmental Protection Agency.

ACTION: Notice of data availability.

SUMMARY: Notice of availability is hereby given for six revised data standards—Biological Taxonomy, Contact Information, Facility Site Identification, Permitting Information, Tribal Identifier and SIC/NAICS. The Biological Taxonomy Data Standard identifies specific data elements necessary for consistent and unambiguous identification of biological organisms of environmental interest. The Contact Information Data Standard describes a point of contact, address and communication information. The Facility Site Identification Data Standard provides for the unique identification of facilities of environmental interest. The Permitting Information Data Standard incorporates the original permitting standard and extends the scope to include information germane to multiple permitting programs. The Tribal Identifier Data Standard adopts the Bureau of Land Management tribal names and codes necessary to identify federally recognized American Indian and Alaska Native entities. The SIC/NAICS Data Standard provides information on business activities through reference to the Standard Industrial Classification (SIC) and the North American Industrial Classification System (NAICS).

FOR FURTHER INFORMATION CONTACT: Linda Spencer; Environmental Protection Agency; 1200 Pennsylvania Avenue, MC 2822T; Washington, DC 20460; phone: 202 566 1651; fax: 202 566 1624; e-mail: Spencer.linda@epa.gov.

SUPPLEMENTARY INFORMATION: The standards are comprised of data elements, formats, and definitions. Each standard document provides an overview diagram that depicts the organization of the standard.

• Key changes to the standards include:

• Identifiers and Code Lists are paired with context data elements.

• Contact Information Data Standard—becomes the primary standard for all contact related information and is referenced in other data standards.

• Facility Site Identification Data Standard—is restructured to reference rather than replicate appropriate primary standards (e.g., contact information) and to include the Federal Facility Data Standard information.

• Federal Facility Data Standard—is incorporated entirely into the Facility Site Identification Data Standard and is no longer its own standard.

These standards were developed and revised by the Environmental Data Standards Council (EDSC). The EDSC is a partnership of among EPA, States, Tribes which promotes the efficient sharing of environmental information through the cooperative development of data standards. The EDSC conducted a technical review of the revised standards by U.S. EPA staff and the States in the Fall 2004. These documents reflect changes based on the comments received during the review.

The standards are intended for use in environmental data exchanges among States, Tribal entities and the U.S. EPA. They are not meant to dictate or to limit data an agency chooses to collect for its own internal purposes. Changes in data standards should not be interpreted to mean that revisions to databases or information systems are required. What they do mean is that formats for sharing data with Exchange Network (EN) partners will change because the Exchange Network has adopted Shared Schema Components based on the data standards. The SSCs are available on the Exchange Network Web site at http://www.exchangenetwork.net.

The draft data standards and “Frequently Asked Questions” document can be found on EDSC's Web site http://www.envdatastandards.net/ and are available through the Docket system as indicated below.

I. General Information

A. How Can I Get Copies of These Documents and Other Related Information?

1. Docket. EPA has established an official public docket for this action under Docket ID No. OEI-2005-0002. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744 and the telephone number for the OEI Docket is (202) 566-1752.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: April 8, 2005.
Oscar Morales,
Director, Collection Strategies Division, Office of Environmental Information, Office of Information Collection.

[FR Doc. 05-7576 Filed 4-14-05; 8:45 am]

BILLING CODE 6560-50-P